DEPARTMENT OF COMMERCE

National Oceanic and Atmospheric Administration

[I.D. 022206B]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Trawl Individual Quota Independent Experts Panel (IEP) will hold a working meeting which is open to the public.

DATES: The IEP working meeting will begin Thursday, March 16, 2006, at 8:30 a.m. and continue until business for the day is complete.

ADDRESSES: The meeting will be held in the Directors Conference Room of Building 1 at 7600 Sandpoint Way NE., Seattle WA 98115; telephone: (206) 526-4741. There will also be a video link at the Captain Barry Fishery Building, Room 101, 2032 SE OSU Drive, Newport, OR 97365; telephone: (541) 867-0100.

Council address: Pacific Fishery Management Council, 7700 NE Ambassador Place, Suite 200, Portland, OR 97220-1384.

FOR FURTHER INFORMATION CONTACT: Mr. Jim Seger, Staff Officer (Economist); telephone: (503) 820-2280.

SUPPLEMENTARY INFORMATION: The purpose of the IEP working meeting is to review and comment on a preliminary internal draft document that Northern Economic Incorporated is developing under contract for a public workshop to be held April 18-20, 2006 on the approach for analysis of the trawl individual quota alternatives.

Although non-emergency issues not contained in the IEP meeting agenda may come before the IEP for discussion, those issues may not be the subject of formal IEP action during these meetings. IEP action will be restricted to those issues specifically listed in this notice and to any issues arising after publication of this notice requiring emergency action under Section 305(c) of the Magnuson-Stevens Fishery Conservation and Management Act, provided the public has been notified of the IEP's intent to take final action to address the emergency.

Special Accommodations

The meeting is physically accessible to people with disabilities. Requests for sign language interpretation or other auxiliary aids should be directed to Ms. Carolyn Porter at (503) 820-2280 at least 5 days prior to the meeting date.

Dated: February 22, 2006.
Helen Troupos,
Acting Director, Office of Sustainable Fisheries, National Marine Fisheries Service.

[FR Doc. E6-2777 Filed 2-27-06; 8:45 am]

BILLING CODE 3510-22-S